DEPARTMENT OF HEALTH AND HUMAN SERVICES

Health Resources and Services Administration

HRSA-Initiated Supplemental Funding to U13 Grant Program Award Recipient

AGENCY: Health Resources and Services Administration (HRSA), Department of Health and Human Services (HHS).

ACTION: Notice of a supplemental award.

SUMMARY: HRSA is providing approximately $4,900,000 in supplemental funding to the University of Kansas, Medical Center Research Institute, Inc. (U13HS33878), the sole award recipient under the Reimbursement of Travel and Subsistence Expenses toward Living Organ Donation Program, to provide increased financial support to living organ donors during the period of September 1, 2020, to August 31, 2021.

FOR FURTHER INFORMATION CONTACT: Please send all written comments to Frank Holloman, Director, Division of Transplantation, Healthcare Systems Bureau, HRSA, 5600 Fishers Lane, Room 08W53A, Rockville, Maryland 20857; telephone (301) 443-7577; or email: donation@hrsa.gov.

SUPPLEMENTARY INFORMATION: Intended Recipient of the Award: University of Kansas, Medical Research Institute, Inc.

Amount of Award: $4,900,000.

Project Period: September 1, 2020 to August 31, 2021.

CFDA Number: 93.134.

Authority: Section 377of the Public Health Service (PHS) Act, as amended (42 U.S.C. 274f,).

Justification: The Reimbursement of Travel and Subsistence Expenses toward Living Organ Donation Program is authorized by section 377 of the Public Health Service (PHS) Act, as amended (42 U.S.C. 274f). The purpose of the program is to provide means-tested reimbursement to living organ donors for travel and subsistence expenses and other incidental nonmedical expenses related to the transplant that the Secretary of HHS may authorize. HRSA currently administers this reimbursement program via a cooperative agreement with the University of Kansas, Medical Center Research Institute, Inc.

On July 10, 2019, the President issued an Executive Order on Advancing American Kidney Health that provides increased support for living organ donors to further the goal of significantly increasing the supply of transplantable kidneys. In the Executive Order, the President directed HHS to propose a regulation to allow living donors to be reimbursed for related lost wages, child-care expenses, and elder-care expenses through HRSA's reimbursement program, and further directed HHS to raise the limit on the income of living donors eligible for reimbursement under the program. HRSA has taken the following actions pursuant to the Executive Order:

• On December 20, 2019, HRSA published a notice of proposed rulemaking in the Federal Register to amend 42 CFR part 121, the regulation that implements the reimbursement program. If finalized as proposed, HRSA's rule would expand the scope of reimbursable expenses for living organ donors to include lost wages, and child-care and elder-care expenses. HRSA expects to publish a final rule no later than November 2020.

• On March 31, 2020, HRSA published a Federal Register notice requesting public comment on proposed revisions to the Program's eligibility guidelines, including an increase in the income eligibility threshold from 300 to 350 percent of the HHS Poverty Guidelines for eligible participants.

The additional funding to the award recipient will support HRSA's initiatives to implement the President's Executive Order, which will ultimately allow for an increased number of potential donors to receive financial support while also increasing the number of transplantable organs.

Activities funded under this supplement are consistent with the previously awarded funding opportunity (HRSA-19-047). In addition to continue providing reimbursement of travel and subsistence expenses to qualified living organ donors, as required under the existing award, the award recipient will implement the reimbursement for these additional incidental non-medical expenses that the Secretary has authorized by regulation as also required under the existing award. Rather than conducting a new competition for the newly expanded program, HRSA has opted to supplement the existing award to expedite the expanded support of living organ donors and increase the number of transplant candidates who benefit from living organ donation. HRSA believes that it is more efficient and effective to have the Reimbursement Program administered by one awardee.

Thomas J. Engels,
Administrator.

[FR Doc. 2020-21992 Filed 10-5-20; 8:45 am]

BILLING CODE 4165-15-P